DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before November 9, 2020.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on October 1, 2020.
Donald P. Burger,
Chief, General Approvals and Permits Branch.

Application No. | Applicant | Regulation(s) affected | Nature of the special permits thereof
Special Permits Data—Granted
10814-M | Spellman High Voltage Electronics Corporation | 173.302a | To modify the special permit to update the reference drawings in the permit.
11859-M | Cobham Mission Systems Orchard Park Inc | 173.301(f), 178.65, 173.302(a)(1) | To modify the special permit to authorize the use of Argon in a missile gas storage system.
14919-M | Joyson Safety Systems Acquisition LLC | 173.301(a)(1), 173.302a, 178.65(f)(2) | To modify the special permit to remove the five year from manufacture date restriction on transporting the articles.
15372-M | Equipo Automotriz Americana, S.a. De C.v | 173.301(a)(1), 173.302a | To modify the special permit to remove the five year from manufacture restriction on transporting the articles.
15821-M | Crane Instrumentation & Sampling, Inc | 173.301(a), 173.302a, 173.304a | To modify the special permit to update the cylinder specification drawings and add a 150 cc cylinder.
16274-M | Matheson Tri-gas, Inc | 173.13(c)(2)(i), 173.13(c)(2)(ii), 173.13(c)(2)(iii) | To modify the special permit to authorize an additional Division 4.3 material.
20588-M | Nantong Tank Container Co., Ltd | 178.274(b)(1), 178.276(a)(2), 178.276(b)(1) | To modify the special permit to authorize a reduction in minimum design pressure and to increase the maximum water capacity.
20964-N | Stanley Black & Decker, Inc | 172.200, 172.600, 172.700(a), 173.185(b) | To authorize the transportation in commerce of the grantee's lithium batteries in direct support of a principle business other than transportation in commerce with alternative hazard communications and training requirements.
20989-M | DGM Italia Srl | 173.56(b), 173.185(a) | To modify the special permit to authorize the use of ATA 300 specification packaging.
21012-N | Praxair Distribution, Inc | 172.203(a), 180.209 | To authorize the transportation in commerce DOT 3AA cylinders that have been re-qualified using 100% UE examination in lieu of internal visual inspection and hydrostatic pressure testing as prescribed at paragraph § 180.209(a). Each cylinder successfully passing requalification using 100% UE examination will have its retest interval extended to at least once every 15 years.
21073-N | Bolloré Logistics Germany Gmbh | 172.101(j), 172.300, 172.400, 173.301, 173.301, 173.302a(a)(1), 173.304a(a)(2) | To authorize the transportation in commerce of certain non-DOT specification containers containing certain Division 2.1, 2.2, 2.3 liquefied and compressed gases and other hazardous materials for use in specialty cooling applications such as satellites and military aircraft.
21079-N | Korean Airlines Co., Ltd | 172.101(j), 173.27(b)(2), 173.27(b)(3), 175.30(a)(1) | To authorize the transportation in commerce of certain explosives which are forbidden for transport by cargo only aircraft.
21100-N | K7 Design Group LLC | 172.301(a)(1) | To authorize the transportation in commerce of ethyl alcohol based hand sanitizer in non-bulk packages without proper marking.
21105-N | US EPA Region 5 | 172.102(c)(1), 173.185(f)(1), 173.185(f)(3) | To authorize the transportation in commerce of certain damaged, defected, or recalled lithium batteries and batteries of other chemistries in the same outer packaging.
21107-N | Walmart Inc. | 172.301(a)(1), 172.301(c), 172.301(d), 172.312(a)(2) | To authorize the transportation in commerce of ethanol-based hand sanitizer in non-bulk combination packages without certain markings.
21122-N | Environmental Protection Agency |  | To authorize the transportation in commerce of hazardous materials in support of the recovery and relief operations from and within California fire disaster areas under conditions that may not meet the Hazardous Materials Regulations (HMR).
21124-N | Environmental Protection Agency |  | To authorize the transportation in commerce of hazardous materials in support of the recovery and relief operations from and within Oregon fire disaster areas under conditions that may not meet the Hazardous Materials Regulations (HMR).
SPECIAL PERMITS DATA—Denied
SPECIAL PERMITS DATA—Withdrawn
21047-N | Tesla, Inc | 173.185(b)(1) | To authorize the transportation in commerce of lithium cells and batteries in alternative packaging.
21065-N | Advance Stores Company Incorporated | 172.704, 173.159 | To authorize the transportation in commerce of lead acid batteries and limited quantities of hazardous materials by third-party delivery services without requiring carrier training.
21109-N | County of Sonoma |  | To authorize the transportation in commerce of certain hazardous materials in support of the recovery and relief operations from and within the fire disaster areas in California under conditions that may not meet the Hazardous Materials Regulations (HMR).
21111-N | County of Solano |  | To authorize the transportation in commerce of certain hazardous materials in support of the recovery and relief operations from and within the fire disaster areas in California under conditions that may not meet the Hazardous Materials Regulations (HMR).
21116-N | The Elco Corporation | 173.35(e) | To authorize the transportation of certain hazmat where two or more closure systems are fitted in series, the system nearest to the hazardous material being carried must be closed first.

[FR Doc. 2020-22364 Filed 10-8-20; 8:45 am]

BILLING CODE 4909-60-P